SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, DCRDP, Attn: Reports Clearance Director, 107 Altmeyer Building, 6401 Security Blvd., Baltimore, MD 21235, Fax: 410-966-2830, Email address: OPLM.RCO@ssa.gov.

I. The information collection below is pending at SSA. SSA will submit it to OMB within 60 days from the date of this notice. To be sure we consider your comments, we must receive them no later than October 9, 2012. Individuals can obtain copies of the collection instrument by writing to the above email address.

Statement of Care and Responsibility for Beneficiary—20 CFR 404.2020, 404.2025, 408.620, 408.625, 416.620, 416.625—0960-0109. SSA uses the information from Form SSA-788 to verify payee applicants' statements of concern and to identify other potential payees. SSA is concerned with selecting the most qualified representative payee who will use Social Security benefits in the beneficiary's best interest. SSA considers factors such as the payee applicant's capacity to perform payee duties, awareness of the beneficiary's situation and needs, demonstration of past and current concern for the beneficiary's well-being, etc. If the payee applicant does not have custody of the beneficiary, SSA will obtain information from the custodian for evaluation against information provided by the applicant. Respondents are individuals who have custody of the beneficiary in cases where someone else has filed to be the beneficiary's representative payee.

Type of Request: Revision of an OMB-approved information collection.

Collection instrument | Number of respondents | Frequency of response | Average burden per response (minutes) | Estimated total annual burden (hours)
SSA-788 | 130,000 | 1 | 10 | 212,667

II. SSA submitted the information collections below to OMB for clearance. Your comments regarding the information collections would be most useful if OMB and SSA receive them 30 days from the date of this publication. To be sure we consider your comments, we must receive them no later than September 10, 2012. Individuals can obtain copies of the OMB clearance packages by writing to OPLM.RCO@ssa.gov.

1. Automated Scheduling Application (ASA)—20 CFR 404.929, 404.936, 404.950, 416.1429, 416.1436, and 416.1450-416.1451—0960-NEW. SSA is creating an online-based scheduling tool, the Automated Scheduling Application (ASA), to document the availability and special needs of participants for hearings before administrative law judges (ALJ). The respondents are disability applicants or recipients, ALJ staff, SSA Hearing Office employees, appointed representatives, medical experts, vocational experts, and verbatim hearing recorders who need to schedule or request special needs related to an ALJ hearing. All respondents will use the ASA system (via SSA's Intranet for SSA employees, and a public-facing Internet site for members of the public) to document their hearings availability and needs, and to view scheduled hearings in an electronic calendar. SSA staff will provide technical support to external users via our 800 number.

Type of Request: This is a new information collection request.

Respondent type | Number of respondents | Frequency of response | Number of responses | Average burden per response (minutes) | Estimated total annual burden (hours)
Medical Experts, Vocational Experts, Hearing Reporters—Availability Reporting Using External ASA | 3,300 | 52 | (171,600) | 8 | 22,880
Appointed Representatives—Availability Reporting Using External ASA | 16,600 | 52 | (863,200) | 8 | 115,093
Medical Experts, Vocational Experts, Hearing Reporters—Requests to HO To Change Availability Using Internal ASA | 3,300 | 6 | (19,800) | 8 | 2,640
Appointed Representatives—Requests to HO To Change Availability Using Internal ASA | 16,600 | 6 | (99,600) | 8 | 13,280
Totals | 39,800 |  | (1,154,200) |  | 153,893

2. Statement of Claimant or Other Person—20 CFR 404.702 & 416.570 —0960-0045. In cases where claimants or others want to share information relating to Supplemental Security Income (SSI) or Social Security benefits, and SSA has no standard form to document this information, the agency uses Form SSA-795. The agency documents whatever information the claimant or other member of the public provides, and considers it when processing benefits claims or when making decisions on ongoing issues relating to the above programs. The respondents are applicants or recipients of SSI or Social Security benefits, or others who are in a position to provide relevant information on an existing claim or case.

Type of Request: Revision of an OMB-approved information collection.

Collection instrument | Number of respondents | Frequency of response | Average burden per response (minutes) | Estimated total annual burden (hours)
SSA-795 | 305,500 | 1 | 15 | 76,375

3. Disability Report—Adult—20 CFR 404.1512 and 416.912—0960-0579. State Disability Determination Services (DDS) use the SSA-3368 and its electronic versions to determine if adult disability applicants' impairments are severe and, if so, how the impairments affect the applicants' ability to work. This determination dictates whether the DDSs and SSA will find the applicant to be disabled and entitled to SSI payments. The respondents are applicants for title II disability benefits or title XVI SSI payments.

Type of Request: Revision of an OMB-approved information collection.

Collection method | Number of respondents | Frequency of response | Average burden per responses (minutes) | Estimated annual burden (hours)
SSA-3368 (Paper Form) | 29,072 | 1 | 60 | 29,072
Electronic Disability Collect System (EDCS) | 2,853,426 | 1 | 60 | 2,853,426
i3368 (Internet) | 421,226 | 1 | 90 | 631,839
Totals | 3,303,724 |  |  | 3,514,337

4. Social Security Number Verification Services—20 CFR 401.45—0960-0660. Internal Revenue Service regulations require employers to provide wage and tax data to SSA using Form W-2 or its electronic equivalent. As part of this process, the employer must furnish the employee's name and Social Security number (SSN). In addition, the employee's name and SSN must match SSA's records for SSA to post earnings to the employee's earnings record, which SSA maintains. SSA offers the Social Security Number Verification Service (SSNVS), which allows employers to verify that the reported names and SSNs of their employees match those in SSA's records. SSNVS is a cost-free method for employers to verify employee information either through the Internet or via telephone. The respondents are employers who need to verify SSN data using SSA's records. This is a correction notice: SSA published incorrect burden information for this collection at 77 FR 29441, on 5/17/12. We are correcting this error here.

Type of Request: Revision of an OMB-approved information collection.

Verification system | Number of respondents | Frequency of response | Number of responses | Average burden per response (minutes) | Estimated total annual burden (hours)
SSNVS | 52,157 | 57 | (2,972,949) | 5 | 247,746
SSNVS Telephone | 6,000 | 2 | (12,000) | 10 | 2,000
Totals | 58,157 |  | (2,984,949) |  | 249,746

5. Statement of Reclamation Action—31 CFR 210—0960-0734. Regulations governing the Federal Government Participation in the Automated Clearing House (1) allow SSA to send Social Security payments to Canada and (2) mandate the reclamation of funds paid erroneously to a Canadian bank or financial institution after the death of a Social Security beneficiary. SSA uses Form SSA-1713, Notice of Reclamation Action, to determine if, how, and when the Canadian bank or financial institution will return erroneous payments after the death of a Social Security beneficiary who elected to have payments sent to Canada. Form SSA-1712 (or SSA-1712 CN), Notice of Reclamation—Canada Payment Made in the United States, is the cover sheet SSA prepares to request return of the payment. The respondents are Canadian banks and financial institutions who erroneously received Social Security payments.

Type of Request: Revision of an OMB-approved information collection.

Collection instrument | Number of respondents | Frequency of response | Average burden per response (minutes) | Estimated total annual burden (hours)
SSA-1713 | 15 | 1 | 5 | 1

6. Electronic Records Express (Third Parties)—20 CFR 404.1700-404.1715—0960-0767. Electronic Records Express (ERE) is an online system that enables medical providers and various third-party representatives to download and submit disability claimant information electronically to SSA as part of the disability application process. To ensure only authorized people access ERE, SSA requires third parties to complete a unique registration process if they wish to use this system. This Information Collection Request (ICR) includes the third-party registration process; the burden for submitting evidence to SSA is part of other, various ICRs. The respondents are third-party representatives of disability applicants or recipients who want to use ERE to electronically access clients' disability files online and submit information to SSA.

Type of Request: Revision to an OMB-approved information collection.

Collection instrument | Number of respondents | Frequency of response | Number of responses | Average burden per response (minutes) | Estimated total annual burden (hours)
ERE | 9,000 | 283 | (2,547,000) | 1 | 42,450

Dated: August 6, 2012.
Faye Lipsky,
Reports Clearance Director, Social Security Administration.

[FR Doc. 2012-19493 Filed 8-8-12; 8:45 am]

BILLING CODE 4191-02-P